DEPARTMENT OF AGRICULTURE

Forest Service

Collaborative Forest Landscape Restoration Program Advisory Committee

AGENCY: Forest Service, USDA.

ACTION: Notice of meeting.

SUMMARY: The Collaborative Forest Landscape Restoration Program (CFLRP) Advisory Committee will meet in Washington, DC. The purpose of the meeting is to review proposed CFLRP projects and make recommendations for project selection to the Secretary of Agriculture.

DATES: The meeting will be held July 20-22, 2010.

ADDRESSES: The meeting will be held at the Holiday Inn Capitol, 550 C Street, SW., Washington, DC 20024. Written comments should be sent to USDA Forest Service, Forest Management, Mailstop-1103, 1400 Independence Avenue, SW., Washington, DC 20250-1103. Comments may also be sent via e-mail to btimko@fs.fed.us or via facsimile to 202-205-1045.

All comments, including names and addresses when provided, are placed in the record and are available for public inspection and copying. The public may inspect comments received at USDA Forest Service, Forest Management, 201 14th Street, SW., Yates Building, Washington, DC 20024-1103. Visitors are encouraged to call ahead to 202-205-1688 to facilitate entry into the Forest Service building.

FOR FURTHER INFORMATION CONTACT: Bill Timko, Deputy Director, Forest Management, 202-205-1688.

Individuals who use telecommunication devices for the deaf (TDD) may call the Federal Information Relay Service (FIRS) at 1-800-877-8339 between 8 a.m. and 8 p.m., Eastern Standard Time, Monday through Friday.

SUPPLEMENTARY INFORMATION: The meeting is open to the public. Council discussion is limited to Forest Service staff and Council members. However, persons who wish to bring Collaborative Forest Landscape Restoration Program matters to the attention of the Council may file written statements with the Council staff before or after the meeting. Public input sessions will be provided and individuals who made written requests by July 19, 2010, will have the opportunity to address the Council at those sessions.

Dated: June 28, 2010.
Thomas A. Peterson,
Acting Associate Deputy Chief, NFS.

[FR Doc. 2010-16110 Filed 7-1-10; 8:45 am]

BILLING CODE 3410-11-P